ENVIRONMENTAL PROTECTION AGENCY

[FRL-9920-57-OEI]

Cross-Media Electronic Reporting: Authorized Program Revision Approval, State of Minnesota

AGENCY: Environmental Protection Agency (EPA).

ACTION: Notice.

SUMMARY: This notice announces EPA's approval of the State of Minnesota's request to revise/modify certain of its EPA-authorized programs to allow electronic reporting.

DATES: EPA's approval is effective December 22, 2014.

FOR FURTHER INFORMATION CONTACT: Karen Seeh, U.S. Environmental Protection Agency, Office of Environmental Information, Mail Stop 2823T, 1200 Pennsylvania Avenue NW., Washington, DC 20460, (202) 566-1175, seeh.karen@epa.gov.

SUPPLEMENTARY INFORMATION: On October 13, 2005, the final Cross-Media Electronic Reporting Rule (CROMERR) was published in the Federal Register (70 FR 59848) and codified as part 3 of title 40 of the CFR. CROMERR establishes electronic reporting as an acceptable regulatory alternative to paper reporting and establishes requirements to assure that electronic documents are as legally dependable as their paper counterparts. Subpart D of CROMERR requires that state, tribal or local government agencies that receive, or wish to begin receiving, electronic reports under their EPA-authorized programs must apply to EPA for a revision or modification of those programs and obtain EPA approval. Subpart D provides standards for such approvals based on consideration of the electronic document receiving systems that the state, tribe, or local government will use to implement the electronic reporting. Additionally, 3.1000(b) through (e) of 40 CFR part 3, subpart D provides special procedures for program revisions and modifications to allow electronic reporting, to be used at the option of the state, tribe or local government in place of procedures available under existing program-specific authorization regulations. An application submitted under the subpart D procedures must show that the state, tribe or local government has sufficient legal authority to implement the electronic reporting components of the programs covered by the application and will use electronic document receiving systems that meet the applicable subpart D requirements. Once an authorized program has EPA's approval to accept electronic documents under certain programs, CROMERR 3.1000(a)(4) requires that the program keep EPA apprised of any changes to laws, policies, or the electronic document receiving systems that have the potential to affect the program's compliance with CROMERR 3.2000.

On June 24, 2014, the Minnesota Pollution Control Agency (MPCA) submitted an amended application titled “Minnesota Pollution Control Agency Regulatory Services Portal” for revisions/modifications of its EPA-approved electronic reporting program under its EPA-authorized programs under title 40 CFR to allow new electronic reporting. EPA reviewed MPCA's request to revise/modify its EPA-authorized programs and, based on this review, EPA determined that the application met the standards for approval of authorized program revisions/modifications set out in 40 CFR part 3, subpart D. In accordance with 40 CFR 3.1000(d), this notice of EPA's decision to approve Minnesota's request to revise/modify its following EPA-authorized programs to allow electronic reporting under 40 CFR parts 51, 60-61, 63, 65, 68, 70-72, 74-75, 79-80, 82, 86, 89-92, 94, 122, 262, 264-266, 268, 270, 280, and 403, is being published in the Federal Register:

Part 52—Approval and Promulgation of Implementation Plans;

Part 60—Standards of Performance for New Stationary Sources;

Part 61—National Emission Standard for Hazardous Air Pollutants;

Part 63—National Emission Standards for Hazardous Air Pollutants for Source Categories;

Part 65—Consolidated Federal Air Rule;

Part 68—Chemical Accident Prevention Provisions;

Part 70—State Operating Permit Programs;

Part 72—Permits Regulation;

Part 74—Sulfur Dioxide OPT-INS;

Part 75—Continuous Emissions Monitoring;

Part 79—Registration of Fuels and Fuel Additives;

Part 80—Registration of Fuels and Fuel Additives;

Part 82—Protection of Stratospheric Ozone;

Part 86—Control of Emissions from New and In-Use Highway Vehicles and Engines;

Part 89—Control of Emissions from New and In-Use Non-road Compression-Ignition Engines;

Part 90—Control Of Emissions From Non-road Spark-Ignition Engines at Or Below 19 Kilowatts;

Part 91—Control of Emissions from Marine Spark-Ignition Engines;

Part 94—Control of Emissions from Marine Compression-Ignition Engines;

Part 123— State Program Requirements;

Part 271—Requirements for Authorization of State Hazardous Waste Programs;

Part 282—Approved Underground Storage Tank Programs; and

Part 403—General Pretreatment Regulations for Existing and New Sources of Pollution.

MPCA was notified of EPA's determination to approve its application with respect to the authorized programs listed above.

Matthew Leopardreyreh,
Acting Director, Office of Information Collection.

[FR Doc. 2014-29483 Filed 12-19-14; 8:45 am]

BILLING CODE 6560-50-P